Executive Order 14276 of April 17, 2025

Restoring American Seafood Competitiveness

By the authority vested in me as President by the Constitution and the laws of the United States of America, it is hereby ordered:

Section 1. Background. The United States controls one of the largest and most abundant ocean resources in the world, with over 4 million square miles of prime fishing grounds. With this vast resource and centuries of hard work from American fishermen, our Nation has the greatest seafood in the world.

Most American fish stocks are healthy and have viable markets. Despite these opportunities, seafood is one of the most heavily regulated sectors in the United States. Federal overregulation has restricted fishermen from productively harvesting American seafood including through restrictive catch limits, selling our fishing grounds to foreign offshore wind companies, inaccurate and outdated fisheries data, and delayed adoption of modern technology.

The United States should be the world's dominant seafood leader. But in addition to overregulation, unfair trade practices have put our seafood markets at a competitive disadvantage. Nearly 90 percent of seafood on our shelves is now imported, and the seafood trade deficit stands at over $20 billion. The erosion of American seafood competitiveness at the hands of unfair foreign trade practices must end.

Sec. 2. Purpose. The United States must address unfair trade practices, eliminate unsafe imports, level the unfair playing field that has benefited foreign fishing companies, promote ethical sourcing, reduce regulatory burdens, and ensure the integrity of the seafood supply chain. Previously, I signed Executive Order 13921 of May 7, 2020 (Promoting American Seafood Competitiveness and Economic Growth). That successful order—which remains in effect—enhanced the competitiveness of United States seafood, streamlined regulations, supported maritime jobs and coastal economies, and improved data collection. During the past 4 years, our fishermen were once again crushed under the pressure of unnecessary regulations and unfavorable policies. It is vital that we now build upon our previous hard work with new, additional measures to promote domestic fishing.

Sec. 3. Policy. It is the policy of the United States to promote the productive harvest of our seafood resources; unburden our commercial fishermen from costly and inefficient regulation; combat illegal, unreported, and unregulated (IUU) fishing; and protect our seafood markets from the unfair trade practices of foreign nations.

Sec. 4. A New Era of Seafood Policy. (a) The Secretary of Commerce, in consultation with the Secretary of Health and Human Services and with input from the United States fishing industry, shall immediately consider suspending, revising, or rescinding regulations that overly burden America's commercial fishing, aquaculture, and fish processing industries at the fishery-specific level. Within 30 days of the date of this order, the Secretary of Commerce shall identify the most heavily overregulated fisheries requiring action and take appropriate action to reduce the regulatory burden on them, in cooperation with the Regional Fishery Management Councils, interagency partners, and through public-private partnerships, as appropriate. This process shall include the following actions:

(i) The Secretary of Commerce shall request that each Regional Fishery Management Council, within 180 days of the date of this order, provide the Secretary of Commerce with updates to their recommendations submitted pursuant to Executive Order 13921, to reduce burdens on domestic fishing and to increase production. Building upon the earlier goals, identified actions should stabilize markets, improve access, enhance economic profitability, and prevent closures. The Regional Fishery Management Councils will commit to a work plan and a schedule for implementation to ensure these actions are prioritized.

(ii) The Secretary of Commerce shall solicit direct public comments, including from fishing industry members, technology experts, marine scientists, and other relevant parties, for innovative ideas to improve fisheries management and science within the requirements of the Magnuson-Stevens Fishery Conservation and Management Act (16 U.S.C. 1801 et seq.); the Endangered Species Act of 1973 (16 U.S.C. 1531 et seq.); the Marine Mammal Protection Act (16 U.S.C. 1361 et seq.); and other applicable laws.

(iii) The Secretary of Commerce shall pursue additional direct public engagement to ensure executive departments and agencies (agencies) are focusing core fisheries management and science functions to directly support priority needs that strengthen our Nation's seafood supply chain.

(b) Upon completion of the process described in subsection (a) of this section, the Secretary of Commerce shall consider updating the Department of Commerce's contribution to the Unified Regulatory Agenda. The Secretary of Commerce shall resume submission of annual reports to the Director of the Office of Management and Budget, the Assistant to the President for Economic Policy, the Assistant to the President for Domestic Policy, and the Chairman of the Council on Environmental Quality pursuant to these activities as described in Executive Order 13921.

(c) The Secretary of Commerce shall direct the National Marine Fisheries Service to incorporate less expensive and more reliable technologies and cooperative research programs into fishery assessments conducted pursuant to 16 U.S.C. 1867. As soon as practicable, the Secretary of Commerce shall expand exempted fishing permit programs to promote fishing opportunities nationwide. Further, the Secretary of Commerce shall take all appropriate action to modernize data collection and analytical practices that will improve the responsiveness of fisheries management to real-time ocean conditions.

(d) The Secretary of Commerce, in consultation with the Secretary of Agriculture, shall develop and implement an America First Seafood Strategy to promote production, marketing, sale, and export of United States fishery and aquaculture products and strengthen domestic processing capacity. This program shall accelerate the Department of Agriculture's efforts to educate American consumers about the health benefits of seafood and increase seafood purchases in nutrition programs.

(e) Within 60 days of the date of this order, the Secretary of Commerce and the United States Trade Representative, in consultation with members of the Interagency Seafood Trade Task Force, shall assess seafood competitiveness issues and jointly develop a comprehensive seafood trade strategy. The strategy shall be based upon the Seafood Trade Strategy of November 3, 2020, that improves access to foreign markets and addresses unfair trade practices—including IUU fishing and unjustified non-tariff barriers—while ensuring a fair and competitive domestic market for United States seafood producers.

(f) The United States Trade Representative shall examine the relevant trade practices of major seafood-producing nations, including with regard to IUU fishing and the use of forced labor in the seafood supply chain, and consider appropriate responses, including pursuing solutions through negotiations or trade enforcement authorities, such as under section 301 of the Trade Act of 1974 (19 U.S.C. 2411).

(g) The Secretary of Commerce, in consultation with the Secretary of Health and Human Services, the Secretary of Homeland Security, and other relevant agencies, shall immediately consider revising or rescinding recent expansions of the Seafood Import Monitoring Program to unnecessary species and further improve the program to more effectively target high-risk shipments from nations that routinely violate international fishery regulations. The Secretary of Commerce, the Secretary of Health and Human Services, and the Secretary of Homeland Security shall use cost savings to improve thorough checks at United States ports to prevent IUU seafood from entering the market. The Secretary of Commerce shall further consider options to use improved technology to identify foreign fishery-related violations.

(h) Within 180 days of the date of this order, the Secretary of Commerce, in consultation with the Secretary of the Interior, shall review all existing marine national monuments and provide recommendations to the President of any that should be opened to commercial fishing. In making these recommendations, the Secretary of Commerce will consider whether the opening of the monuments to commercial fishing would be consistent with the preservation of the historic landmarks, historic and prehistoric structures, and other objects of historic or scientific interest originally identified in the proclamations establishing the marine national monuments.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 17, 2025.

[FR Doc. 2025-07062

Filed 4-21-25; 11:15 am]

Billing code 3395-F4-P